DEPARTMENT OF LABOR

Employment and Training Administration

[TA-W-55,290]

Butler Manufacturing Company, Subsidiary of Bluescope Steel, Ltd., Buildings Division, Fabricated Frames Production, Including Support Personnel, Galesburg, IL; Amended Certification Regarding Eligibility To Apply for Worker Adjustment Assistance and Alternative Trade Adjustment Assistance

In accordance with section 223 of the Trade Act of 1974 (19 U.S.C. 2273) the Department of Labor issued a Certification Regarding Eligibility to Apply for Worker Adjustment Assistance and Alternative Trade Adjustment Assistance on September 28, 2004, applicable to workers of Butler Manufacturing Company, subsidiary of BlueScope Steel, Ltd, Buildings Division, Fabricated Frames Production, Galesburg, Illinois. The notice was published in the Federal Register on October 4, 2004 (69 FR 62463).

At the request of a company official, the Department reviewed the certification for workers of the subject firm. The workers are engaged in the production of pre-engineered metal buildings.

New information shows that worker separations have occurred involving the support personnel of the Fabricated Frames Production, Butler Manufacturing Company, Galesburg, Illinois. These workers provided support services for the production of pre-engineered metal buildings systems produced by the subject firm.

Accordingly, the Department is amending this certification to extend coverage to the support personnel of the Fabricated Frames Production, Butler Manufacturing Company, Galesburg, Illinois.

The intent of the Department's certification is to include all workers of Butler Manufacturing Company, Fabricated Frames Production, including support personnel, Galesburg, Illinois who were adversely affected by a shift in production to Mexico.

The amended notice applicable to TA-W-55,290 is hereby issued as follows:

All workers of Butler Manufacturing Company, subsidiary of BlueScope Steel, Ltd., Buildings Division, Fabricated Frames Production, including support personnel, Galesburg, Illinois working at Butler Manufacturing Company, subsidiary of BlueScope Steel, Ltd., Buildings Division, Fabricated Frames Production, Galesburg, Illinois (TA-W-55,290), who became totally or partially separated from employment on or after July 16, 2003, through September 28, 2006, are eligible to apply for adjustment assistance under section 223 of the Trade Act of 1974, are also eligible to apply for alternative trade adjustment assistance under section 246 of the Trade Act of 1974.

Signed in Washington, DC this 12th day of November, 2004.
Elliott S. Kushner,
Certifying Officer, Division of Trade Adjustment Assistance.

[FR Doc. E4-3365 Filed 11-29-04; 8:45 am]

BILLING CODE 4510-30-P